DEPARTMENT OF THE INTERIOR

Bureau of Indian Affairs

Renewal of Agency Information Collection for Class III Tribal-State Gaming Compact Process; Request for Comments

AGENCY: Bureau of Indian Affairs, Interior.

ACTION: Notice of submission to OMB.

SUMMARY: In compliance with the Paperwork Reduction Act of 1995, the Bureau of Indian Affairs (BIA) is submitting to the Office of Management and Budget (OMB) a request for renewal for the collection of information for the Class III Tribal State Gaming Compact Process. The information collection is currently authorized by OMB Control Number 1076-0172, which expires November 30, 2011.

DATES: Interested persons are invited to submit comments on or before December 19, 2011.

ADDRESSES: You may submit comments on the information collection to the Desk Officer for the Department of the Interior at the Office of Management and Budget, by facsimile to (202) 395-5806 or you may send an email to: OIRA_DOCKET@omb.eop.gov. Please send a copy of your comments to Paula L. Hart, Director, Office of Indian Gaming, 1849 C Street NW., MS 3657, Washington, DC 20240, Fax No. (202) 273-3153.

FOR FURTHER INFORMATION CONTACT: Paula L. Hart at (202) 219-4066.

SUPPLEMENTARY INFORMATION:

I. Abstract

The BIA is seeking renewal of the approval for the information collection conducted under 25 CFR 293, Class III Tribal State Gaming Compact Process and the Indian Gaming Regulatory Act (IGRA), 25 U.S.C. 2710(d)(8)(A), (B) and (C), which authorizes the Secretary to approve, disapprove or “consider approved” (i.e., deem approved) a tribal state gaming compact or compact amendment and publish notice of that approval or considered approval in the Federal Register.

II. Request for Comments

BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the location listed in the ADDRESSES section during the hours of 9 a.m.-5 p.m., Eastern Time, Monday through Friday except for legal holidays. Before including your address, phone number, email address or other personally identifiable information, be advised that your entire comment—including your personally identifiable information—may be made public at any time. While you may request that we withhold your personally identifiable information, we cannot guarantee that we will be able to do so.

III. Data

OMB Control Number: 1076-0172.

Title: Class III Tribal State Gaming Compact Process, 25 CFR part 293.

Brief Description of Collection: The information collected includes tribal state compacts or compact amendments entered into by Indian tribes and State governments. The Secretary of the Interior reviews this information and may approve, disapprove or considered the compact approved.

Type: Extension without change of a currently approved collection.

Respondents: Indian tribes and State governments.

Number of Respondents: 32 per year, on average.

Frequency of Response: Once.

Estimated Time per Response: 360 hours.

Estimated Total Annual Burden: 11,520 hours.

Dated: November 10, 2011.
Alvin Foster,
Assistant Director for Information Resources.

[FR Doc. 2011-29875 Filed 11-17-11; 8:45 am]

BILLING CODE 4310-02-P